DEPARTMENT OF TRANSPORTATION

Federal Aviation Administration

14 CFR Part 39

[Docket No. FAA-2007-28996; Directorate Identifier 2006-NM-217-AD; Amendment 39-15283; AD 2007-25-02]

RIN 2120-AA64

Airworthiness Directives; Airbus Model A310 Series Airplanes

AGENCY: Federal Aviation Administration (FAA), Department of Transportation (DOT).

ACTION: Final rule.

SUMMARY: The FAA is adopting a new airworthiness directive (AD) for all Airbus Model A310 series airplanes. This AD requires revising the Airworthiness Limitations section of the Instructions for Continued Airworthiness to incorporate new and revised structural inspections and inspection intervals. This AD results from issuance of new and revised structural inspections and inspection intervals. We are issuing this AD to detect and correct fatigue cracking, which could result in reduced structural integrity of the airplane.

DATES: This AD becomes effective January 14, 2008.

The Director of the Federal Register approved the incorporation by reference of certain publications listed in the AD as of January 14, 2008.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

The FAA issued a notice of proposed rulemaking (NPRM) to amend 14 CFR part 39 to include an AD that would apply to all Airbus Model A310 series airplanes. That NPRM was published in the Federal Register on August 16, 2007 (72 FR 45952). That NPRM proposed to require revising the Airworthiness Limitations section of the Instructions for Continued Airworthiness to incorporate new and revised structural inspections and inspection intervals.

Comments

We provided the public the opportunity to participate in the development of this AD. We have considered the comments received.

Support for the NPRM

Airbus supports issuance of this AD without further delay.

Request To Revise Address for Reporting Requirement

Airbus requests that we revise the address for the reporting requirement specified in the NPRM. We agree and have revised paragraph (i) of this AD to refer to the address provided in Airbus's comment.

Conclusion

We have carefully reviewed the available data, including the comments received, and determined that air safety and the public interest require adopting the AD with the change described previously. We have determined that this change will neither increase the economic burden on any operator nor increase the scope of the AD.

Costs of Compliance

This AD affects about 69 airplanes of U.S. registry. The required actions take about 2 work hours per airplane, at an average labor rate of $80 per work hour. Based on these figures, the estimated cost of the AD for U.S. operators is $11,040, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-25-02 Airbus: Amendment 39-15283. Docket No. FAA-2007-28996; Directorate Identifier 2006-NM-217-AD.

Effective Date

(a) This AD becomes effective January 14, 2008.

Affected ADs

(b) None.

Applicability

(c) This AD applies to all Airbus Model A310 series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25.1529-1.

Unsafe Condition

(d) This AD results from issuance of new and revised structural inspections and inspection intervals. We are issuing this AD to detect and correct fatigue cracking, which could result in reduced structural integrity of the airplane.

Compliance

(e) You are responsible for having the actions required by this AD performed within the compliance times specified, unless the actions have already been done.

Revision of Airworthiness Limitations Section (ALS) of the Instructions for Continued Airworthiness (ICA)

(f) Within 3 months after the effective date of this AD, do the actions specified in paragraphs (f)(1) and (f)(2) of this AD.

(1) Revise the ALS of the ICA to incorporate the structural inspections and inspection intervals defined in Airbus A310 Airworthiness Limitations Items (ALI) Document, AI/SE-M2/95A.0263/06, Issue 6, dated April 2006 (approved by the European Aviation Safety Agency (EASA) on May 31, 2006) (hereafter referred to as “Issue 6 of the ALI”). Accomplish the actions specified in Issue 6 of the ALI at the times specified in that ALI, except as provided by paragraph (g) of this AD. Thereafter, except as provided by paragraphs (f)(2) and (j) of this AD, no alternative structural inspection intervals may be approved. The actions specified in Issue 6 of the ALI must be accomplished in accordance with Issue 6 of the ALI.

(2) Revise the ALS of the ICA to incorporate the new and revised structural inspections and inspection intervals defined in Airbus Temporary Revision (TR) 6.1, dated November 2006 (approved by the EASA on December 12, 2006), to Issue 6 of the ALI. Thereafter, except as provided by paragraph (j) of this AD, no alternative structural inspection intervals may be approved.

Exception to Issue 6 of the ALI

(g) The tolerance (grace period) for compliance with Issue 6 of the ALI is within 1,500 flight cycles after the effective date of this AD provided that none of the following is exceeded:

(1) Thresholds or intervals in the operator's current approved maintenance schedule that are taken from a previous ALI issue, if existing, and are higher than or equal to those given in Issue 6 of the ALI.

(2) 18 months after the effective date of this AD.

(3) 50 percent of the intervals given in Issue 6 of the ALI.

(4) Any application tolerance specified in Section D of Issue 6 of the ALI.

Corrective Actions

(h) Damaged, cracked, or corroded structure detected during any inspection done in accordance with Issue 6 of the ALI must be repaired, before further flight, in accordance with Issue 6 of the ALI; or in accordance with other data meeting the certification basis of the airplane that has been approved by either the Manager, International Branch, ANM-116, Transport Airplane Directorate, FAA, or the EASA (or its delegated agent). Where Issue 6 of the ALI specifies to contact Airbus for appropriate action:

Before further flight, repair the damaged, cracked, or corroded structure using a method approved by either the Manager, International Branch, ANM-116, or the EASA (or its delegated agent).

Reporting Requirement

(i) If any damage that exceeds the allowable limits specified in Issue 6 of the ALI is detected during any inspection required by this AD: At the applicable time specified in paragraph (i)(1) or (i)(2) of this AD, submit a report of the finding to Airbus, Customer Service Directorate, Attn: Department Manager Maintenance Engineering, 1 Rond Point Maurice Bellonte, 31707 Blagnac Cedex, France; e-mail: sched.maint@airbus.com. The report must include the ALI task reference, airplane serial number, the number of flight cycles and flight hours on the airplane, identification of the affected structure, location and description of the finding including its size and orientation, and the circumstance of detection and inspection method used. Under the provisions of the Paperwork Reduction Act (44 U.S.C. 3501, et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Alternative Methods of Compliance (AMOCs)

(j)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) EASA airworthiness directive 2006-0260, dated August 25, 2006, also addresses the subject of this AD.

Material Incorporated by Reference

(l) You must use Airbus A310 Airworthiness Limitations Items Document, AI/SE-M2/95A.0263/06, Issue 6, dated April 2006; and Airbus Temporary Revision 6.1, including pages 1 and 2 of Section D and page 1 of Section E, dated November 2006, to Airbus A310 Airworthiness Limitations Items Document, AI/SE-M2/95A.0263/06, Issue 6, dated April 2006; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on November 23, 2007.
Ali Bahrami,
Manager, Transport Airplane Directorate, Aircraft Certification Service.

[FR Doc. E7-23544 Filed 12-7-07; 8:45 am]

BILLING CODE 4910-13-P